DEPARTMENT OF LABOR

Employment and Training Administration

Proposed Collection; Comment Request

AGENCY: Employment and Training Administration, Labor.

ACTION: Notice of proposed collection and comment request.

SUMMARY: The Department of Labor, as part of its continuing effort to reduce paperwork and respondent burden conducts a pre-clearance consultation program to provide the general public and Federal agencies with an opportunity to comment on proposed and/or continuing collections of information in accordance with the Paperwork Reduction Act of 1995 (PRA95) (44 U.S.C. 3506(c)(2)(A)). PRA95 helps to ensure that requested data can be provided in the desired format, reporting burden (time and financial resources) is minimized, collection instruments are clearly understood, and the impact of collection requirements on respondents can be properly assessed.

The Employment and Training Administration (ETA) is soliciting comments concerning the proposed revised collection of information for the annual grant plan and the annual performance report for Program Year (PY) 2002 Workforce Information Core Products and Services grants. The revision would result in an increased burden to States in the time required to develop and administer the grants.

A copy of the proposed information collection request (ICR) can be obtained by contacting the office listed below in the addressee section of this notice. The proposed planning guidance for PY' 2002 Workforce Information Core Products and Services grants can also be accessed at: http://www.usworkforce.org.

DATES: Written comments must be submitted to the office listed in the addressee section below on or before July 1, 2002.

ADDRESSES: Ms. Gay Gilbert, Chief, Division of USES/ALMIS, Office of Workforce Security, Employment and Training Administration, 200 Constitution Ave., NW., Rm. S-4231, Washington, DC 20210, 202-693-3428 (this is not a toll-free number) or ggilbert@doleta.gov.

SUPPLEMENTARY INFORMATION:

I. Background

Section 15 of the Wagner-Peyser Act as amended by section 309 of the Workforce Investment Act of 1998 (Public Law 105-220), requires state agencies to consult with customers about the relevance of the information disseminated through the statewide employment statistics system, in order to continuously improve the system. To carry out this requirement and to increase accountability for the expenditure of grant funds for workforce information, ETA is proposing that beginning in PY 2002, a condition for receiving grant funds would be a requirement that States conduct an assessment of customer satisfaction with State produced workforce information products and services and include a summary of the results of the assessment and a description of any actions to be taken to improve the system, in the currently required annual performance report.

States would also be required to provide additional narrative in the annual grant plan, describing the statewide employment statistics system and how the system supports the State's WIA/Wagner-Peyser Five Year Strategic Plan, and a description of the State's planned strategy for assessing customer satisfaction with State produced workforce information.

ETA published its intent to require that future State annual performance reports for these grants include the results of an assessment of customer satisfaction with the State's employment statistics system, in Training and Employment Guidance Letter No. 22-00, dated May 23, 2001, (OMB Control Number 1205-0417).

II. Review and Focus

The Office of Management and Budget is particularly interested in comments which:

Evaluate whether the proposed collection of information is necessary for the proper performance of the functions of the agency, including whether the information will have practical utility;

Evaluate the accuracy of the agency's estimate of the burden of the proposed collection of information, including the validity of the methodology and assumptions used;

Enhance the quality, utility, and clarity of the information to be collected; and

Minimize the burden of the collection of information on those who are to respond, including through the use of appropriate automated, electronic, mechanical, or other technological collection techniques or other forms of information technology, e.g., permitting electronic submissions of responses.

III. Current Action

Type of Review: Revision.

Agency: Employment and Training Administration.

Title: PY 2002 Workforce Information Core Products and Services grants.

OMB Number: 1205-0417.

Affected Public: States.

Estimated Respondent Burden Hours:

| Respondents | Responses | Total | Hours | Burden
Annual Plan | 54 | 1 | 54 | 65 | 3,510
Customer Satisfaction | 54 | 1 | 54 | 642 | 34,668
Annual Report | 54 | 1 | 54 | 57 | 3,078
Total | 54 | 3 | 162 | 764 | 41,256

Total Burden Cost (capital/startup): $0.

Total Burden Cost (operating/maintaining): $0.

Comments submitted in response to this comment request will be summarized and/or included in the request for Office of Management and Budget approval of the information collection request; they will also become a matter of public record.

Dated: April 25, 2002.
Grace Kilbane,
Administrator, Office of Workforce Security, Labor.

[FR Doc. 02-10640 Filed 4-29-02; 8:45 am]

BILLING CODE 4510-30-P